ENVIRONMENTAL PROTECTION AGENCY

[OPP-42080A; FRL-6813-1]

Nebraska State Plan for Certification of Applicators of Restricted Use Pesticides; Notice of Approval

AGENCY: Environmental Protection Agency (EPA).

ACTION: Notice.

SUMMARY: In the Federal Register of October 3, 2001 (66 FR 50430) (FRL-6798-8), EPA issued a notice of intent to approve an amended Nebraska Plan for the certification of applicators of restricted use pesticides. In this notice EPA solicited comments from the public on the proposed action to approve the amended Nebraska Plan. The amended Certification Plan Nebraska submitted to EPA contained several statutory, regulatory, and programmatic changes to its current Certification Plan. The proposed amendments established new commercial and noncommercial categories and subcategories along with their respective standards of competency, and the payment of appropriate fees for the licensing of commercial, noncommercial and private applicators. No comments were received and EPA hereby approves the amended Nebraska Plan.

ADDRESSES: The amended Nebraska Certification Plan can be reviewed at the locations listed under Unit I.B. of the SUPPLEMENTARY INFORMATION.

FOR FURTHER INFORMATION CONTACT: John Tice, Water, Wetlands and Pesticide Division/Pesticide Branch (WWPD/PEST), Environmental Protection Agency, Region VII, 901 N. 5th St., Kansas City, KS; telephone number: (402) 437-5080; fax number: (402) 323-9079; e-mail address: Tice.john@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, this action may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of the Amended State Plan, Other Related Documents, and Additional Information?

To obtain copies of the amended Nebraska Certification Plan, other related documents, or additional information contact:

1. John Tice at the address listed under FOR FURTHER INFORMATION CONTACT.

2. Tim Creger, Nebraska, Department of Agriculture, P.O. Box 94756, Lincoln, NE 68509-4756; telephone number: (402) 471-2394; e-mail address: timc@agr.state.ne.us.

3. Jeanne Heying, Field and External Affairs Division (7506C), Office of Pesticide Programs, Environmental Protection Agency, 1200 Pennsylvania Ave., NW.; telephone number: (703) 308-3240; e-mail address: heying.jeanne@epa.gov.

4. The Nebraska Certification plan and proposed changes may be viewed on the internet at the following URL: http://www.agr.state.ne.us/division/bpi/pes/p07.pdf.

II. What Action Is the Agency Taking?

EPA is approving the amended Nebraska Certification Plan. This approval is based upon the EPA review of the Nebraska Plan and finding it in compliance with FIFRA and 40 CFR part 171. Further, there were no public comments submitted to the earlier Federal Register Notice soliciting comments. The amended Nebraska Certification Plan is therefore approved.

List of Subjects

Environmental protection.

Dated: November 19, 2001.
Martha R. Steincamp,
Acting Regional Administrator, Region VII.

[FR Doc. 01-30273 Filed 12-5-01; 8:45 am]

BILLING CODE 6560-50-S